DEPARTMENT OF LABOR

Employment and Training Administration

[TA-W-65,136]

Cummins Power Generation; Fridley, MN; Notice of Termination of Investigation

Pursuant to Section 221 of the Trade Act of 1974, as amended, an investigation was initiated on February 5, 2009 in response to a worker petition filed by the Minnesota State Workforce Office on behalf of workers of Cummins Power Generation, Fridley, Minnesota.

The petitioner has requested that the petition be withdrawn. Consequently, the investigation has been terminated.

Signed at Washington, DC, this 17th day of March 2009.
Elliott S. Kushner,
Certifying Officer, Division of Trade Adjustment Assistance.

[FR Doc. E9-7107 Filed 3-30-09; 8:45 am]

BILLING CODE 4510-FN-P